ENVIRONMENTAL PROTECTION AGENCY

[FRL-9843-6]

National Environmental Justice Advisory Council; Notification of Public Meeting and Public Comment

AGENCY: Environmental Protection Agency (EPA).

ACTION: Notice; public meeting.

SUMMARY: Pursuant to the Federal Advisory Committee Act (FACA), the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTARY INFORMATION. Due to limited space, seating at the NEJAC meeting will be on a first-come, first-served basis.

DATES: The NEJAC meeting will convene Wednesday, September 11, 2013, from 9:00 a.m. until 3:45 p.m.; and will reconvene on Thursday, September 12, 2013, from 9:00 a.m. to 5:00 p.m. All noted times are Eastern Time.

One public comment period relevant to the specific issues being considered by the NEJAC (see “SUPPLEMENTARY INFORMATION”) is scheduled for Wednesday, September 11, 2013, from 4:00 p.m. Eastern Time. Members of the public who wish to participate during the public comment period are highly encouraged to pre-register by Noon Eastern Time on Wednesday, August 28, 2013.

ADDRESSES: The NEJAC meeting will be held at the Sam Nunn Atlanta Federal Center, located at 61 Forsyth Street, Atlanta, Georgia.

FOR FURTHER INFORMATION CONTACT: Questions concerning the meeting should be directed to Mr. Aaron Bell, U.S. Environmental Protection Agency, 1200 Pennsylvania Avenue NW (MC2201A), Washington, DC, 20460; by telephone at 202-564-1044, via email at Bell.Aaron@epa.gov; or by FAX at 202-501-0936. Additional information about the meeting is available at the following Web site address: http://www.epa.gov/environmentaljustice/nejac/meetings.html

Registration is required for all participants. Pre-registration by Noon Eastern Time, Wednesday, August 28, 2013, for all attendees is highly recommended. Because this NEJAC meeting will be held in a government space, we strongly encourage you to register early. Space limitations may not allow us to accommodate everyone who is interested in attending. Priority admission will be given to pre-registered participants. To register online, visit the Web site address above. Alternatively, registration forms should be faxed to Ms. Estela Rosas, EPA Contractor, APEX Direct, Inc., at 877-773-0779, or emailed to NEJACSep2013Mtg@AlwaysPursuingExcellence.com. Please state whether you would like to be put on the list to provide oral public comment. Please specify whether you are submitting written comments before the August 28, 2013, deadline. Non-English speaking attendees wishing to arrange for a foreign language interpreter may make appropriate arrangements in writing using the above email address or by calling the above telephone number.

SUPPLEMENTARY INFORMATION: The Charter of the NEJAC states that the advisory committee shall provide independent advice to the EPA Administrator about areas that may include, among other things, “advice about broad, cross-cutting issues related to environmental justice, including environment-related strategic, scientific, technological, regulatory, and economic issues related to environmental justice.”

The meeting shall be used to receive comments, and discuss and/or provide recommendations regarding these primary areas: (1) Updates on EPA's Plan EJ 2014; (2) Updates from NEJAC work groups on Science and Research, Community Resiliency, and Indigenous Peoples; and (3) EPA's draft technical guidance on incorporating environmental justice in rulemaking; and (4) environmental justice in permitting. In addition, the Council will recognize the 20th Anniversary of the NEJAC.

A. Public Comment: Individuals or groups making oral presentations during the public comment periods will be limited to a total time of five minutes. To accommodate the large number of people who want to address the NEJAC, only one representative of an organization or group will be allowed to speak. If time permits, multiple representatives from the same organization can provide comment at the end of the session. In addition, those who did not sign up in advance to give public comment can sign up on site. The suggested format for written public comments is as follows: Name of Speaker; Name of Organization/Community; City and State; Email address; and a brief description of the concern and what you want the NEJAC to advise EPA to do. Written comments received by Noon Eastern Time, Wednesday, August 28, 2013, will be included in the materials distributed to the members of the NEJAC. Written comments received after that date and time will be provided to the NEJAC as time allows. All information should be sent to the mailing address, email address, or fax number listed in the FOR FURTHER INFORMATION CONTACT section above.

B. Information About Services for Individuals With Disabilities: For information about access or services for individuals with disabilities, please contact Ms. Estela Rosas, EPA Contractor, APEX Direct, Inc., at 877-773-0779 or NEJACSep2013Mtg@AlwaysPursuingExcellence.com. To request special accommodations for a disability, please contact Ms. Rosas at least seven (7) working days prior to the meeting, to give EPA sufficient time to process your request. All other requests specifically related to the meeting should be sent to the mailing address, email address, or fax number listed in the “FOR FURTHER INFORMATION CONTACT” section above.

Dated: July 30, 2013.
Victoria J. Robinson,
Designated Federal Officer, National Environmental Justice Advisory Council.

[FR Doc. 2013-18989 Filed 8-5-13; 8:45 am]

BILLING CODE 6560-50-P